DEPARTMENT OF THE INTERIOR

Bureau of Indian Affairs

Indian Gaming

AGENCY: Bureau of Indian Affairs, Interior.

ACTION: Notice of Approved Tribal—State Gaming Compact Amendment.

SUMMARY: This notice publishes an approval of the First Amendment to the Tribal-State Compact between the Spokane Tribe and the State of Washington.

DATES: Effective Date: October 24, 2008.

FOR FURTHER INFORMATION CONTACT: Paula L. Hart, Acting Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This Amendment increases the overall limit of allowable player terminals, incorporates agreements that stall the availability of higher stake table games until April 30, 2010, establishes a leasing arrangement and places a moratorium on amendments relating to TLS player terminals until June 30, 2009. This Amendment is hereby approved.

Dated: October 14, 2008.
George T. Skibine,
Acting Deputy Assistant Secretary for Policy and Economic Development—Indian Affairs.

[FR Doc. E8-25349 Filed 10-23-08; 8:45 am]

BILLING CODE 4310-4N-P